EQUAL EMPLOYMENT OPPORTUNITY COMMISSION

29 CFR Parts 1601 and 1626

RIN 3046-AB32

Congressional Disapproval of Update of Commission's Conciliation Procedures

AGENCY: Equal Employment Opportunity Commission.

ACTION: Final rule; Congressional Review Act revocation.

SUMMARY: Pursuant to their authority under the Congressional Review Act (CRA), Congress passed, and the President signed, a joint resolution disapproving the Equal Employment Opportunity Commission's (EEOC or Commission) final rule titled “Update of Commission's Conciliation Procedures.” Under the joint resolution and by operation of the CRA, this rule has no legal force or effect. The Commission hereby is removing it from the Code of Federal Regulations.

DATES: This final rule is effective February 16, 2024.

FOR FURTHER INFORMATION CONTACT: Kathleen Oram, Assistant Legal Counsel, Office of Legal Counsel, at kathleen.oram@eeoc.gov or (202) 921-2665 (voice). Requests for this document in an alternative format should be made to the EEOC's Office of Communications and Legislative Affairs at (202) 921-3191 (voice), 1-800-669-6820 (TTY), or 1-844-234-5122 (ASL video phone).

SUPPLEMENTARY INFORMATION: On October 9, 2020, the Commission published a notice of proposed rulemaking (NPRM) in the Federal Register, proposing amendments to its procedural rules governing the conciliation process (85 FR 64079). The Commission published the final rule, titled “Update of Commission's Conciliation Procedures,” in the Federal Register on January 14, 2021 (86 FR 2974) (“Final Rule”). The Final Rule outlined the information that the Commission must provide when undertaking conciliation efforts for charges alleging violations of Title VII of the Civil Rights Act of 1964, the Americans with Disabilities Act of 1990 (ADA), the Genetic Information Nondiscrimination Act of 2008 (GINA), and the Age Discrimination in Employment Act of 1967 (ADEA). The Final Rule became effective on February 16, 2021.

On May 19, 2021, the United States Senate passed a joint resolution (S.J. Res. 13) disapproving the Final Rule under the Congressional Review Act (CRA) (5 U.S.C. 801 et seq.). The United States House of Representatives passed S.J. Res. 13 on June 24, 2021. The President signed the joint resolution into law as Public Law 117-22 on June 30, 2021. Under Public Law 117-22 and by operation of the CRA, the Final Rule has no force or effect. Accordingly, the Commission is hereby removing the Final Rule from the Code of Federal Regulations (CFR).

This action is not an exercise of the Commission's rulemaking authority under the Administrative Procedure Act (APA) because the Commission is not “formulating, amending, or repealing a rule” under 5 U.S.C. 551(5). Rather, the Commission is effectuating a change to the Code of Federal Regulations to reflect what congressional and presidential action already has accomplished. Accordingly, the Commission is not soliciting comments on this action, nor is it delaying the effective date.

List of Subjects in 29 CFR Parts 1601 and 1626

Administrative practice and procedure, Equal employment opportunity.

For the reasons set forth above, and pursuant to the CRA (5 U.S.C. 801 et seq.) and Public Law 117-22, the Equal Employment Opportunity Commission amends 29 CFR parts 1601 and 1626 as follows:

PART 1601—PROCEDURAL REGULATION

1. The authority citation for 29 CFR part 1601 continues to read as follows:

Authority: 42 U.S.C. 2000e to 2000e-17; 42 U.S.C. 12111 to 12117; 42 U.S.C. 2000ff to 2000ff-11; 28 U.S.C. 2461 note, as amended; Pub. L. 104-134, Sec. 31001(s)(1), 110 Stat. 1373.

§ 1601.24 [Amended]

2. Amend § 1601.24 by removing paragraphs (d), (e), and (f).

PART 1626—PROCEDURES—AGE DISCRIMINATION IN EMPLOYMENT ACT

3. The authority citation for 29 CFR part 1626 continues to read as follows:

Authority: Sec. 9, 81 Stat. 605, 29 U.S.C. 628; sec. 2, Reorg. Plan No. 1 of 1978, 3 CFR, 1978 Comp., p. 321.

4. Revise § 1626.12 to read as follows:

§ 1626.12 Conciliation efforts pursuant to section 7(d) of the Act.

Upon receipt of a charge, the Commission shall promptly attempt to eliminate any alleged unlawful practice by informal methods of conciliation, conference and persuasion. Upon failure of such conciliation the Commission will notify the charging party. Such notification enables the charging party or any person aggrieved by the subject matter of the charge to commence action to enforce their rights without waiting for the lapse of 60 days. Notification under this section is not a Notice of Dismissal or Termination under § 1626.17.

5. Amend § 1626.15 by revising paragraph (d) to read as follows:

§ 1626.15 Commission enforcement.

* * * * *

(d) Upon the failure of informal conciliation, conference and persuasion under section 7(b) of the Act, the Commission may initiate and conduct litigation.

* * * * *

Charlotte A. Burrows,
Chair, Equal Employment Opportunity Commission.

[FR Doc. 2024-03176 Filed 2-15-24; 8:45 am]

BILLING CODE 6570-01-P